DEPARTMENT OF COMMERCE

Foreign-Trade Zones Board

[Order No. 1590]

Expansion of Foreign-Trade Zone 234 Gregg County, TX

Pursuant to its authority under the Foreign-Trade Zones (FTZ) Act of June 18, 1934, as amended (19 U.S.C. 81a-81u), the Foreign-Trade Zones Board (the Board) adopts the following Order:

Whereas, Gregg County, Texas, grantee of Foreign-Trade Zone No. 234, submitted an application to the Board for authority to expand FTZ 234 to include a site at the Synergy Park at Elder Lake in Kilgore, Texas, adjacent to the Shreveport-Bossier Customs and Border Protection port of entry (FTZ Docket 29-2008, filed 5/5/2008);

Whereas, notice inviting public comment was given in the Federal Register (73 FR 27491, 5/13/2008) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 234 is approved, subject to the Act and the Board's regulations, including Section 400.28.

Signed at Washington, DC, this 20th day of November 2008.
David M. Spooner,
Assistant Secretary of Commerce for Import Administration, Alternate Chairman, Foreign-Trade Zones Board.

[FR Doc. E8-29989 Filed 12-16-08; 8:45 am]

BILLING CODE 3510-DS-P